THE PEACE CORPS

Agency Information Collection Under Review by the Office of Management and Budget

AGENCY: Peace Corps.

ACTION: Notice of submission for OMB review, comment request.

SUMMARY: The Peace Corps has submitted an information collection to the Office of Management and Budget for review under the provisions of the Paperwork Reduction Act of 1995. The forms PC 1789 Health Status Review and PC 1790 Report of Medical Exam is required under the Peace Corps Act for Volunteer application. No comments were received in response to the Peace Corps' earlier Federal Register Notice (July 20, 2000, Volume 65, Number 140 at page 45117). The Peace Corps is not proposing any changes to the PC 1789 or PC 1790.

DATES: Submit comments on or before November 28, 2000.

ADDRESSES: Comment should be addressed to David O'Neill at the Peace Corps, 111 20th Street, NW., Attn: OMS, Washington, DC 20526, or call 202-692-1577, or email at doneill@peacecorps.gov. Email comments must be made in text and not in attachments.

FOR FURTHER INFORMATION CONTACT: David O'Neil at the Peace Corps, 1111 20th Street NW., Attn: OMS, Washington, DC 20526, or call 202-692-1577, or email at doneill@peacecorps.gov. Email comments must be made in text and not in attachments.

SUPPLEMENTARY INFORMATION: OMB Control Number: 0420-0510.

Title: Health Status Review/Report of Medical Exam.

Forms No: PC 1789/PC 1790.

Type of Review: Renewal, without change, of a previously approved collection that will expire November 30, 2000.

Respondents: Public.

Number of Respondents: None.

Needs and Uses: The PC 1789/PC 1790 usage is necessary to comply with the Peace Corps Act (Section 5(e)) which states that applicants for enrollment shall receive such health examinations preparatory to their services * * * as the President may deem necessary or appropriate * * * to provide the information needed for clearance, and to serve as a reference for any future Volunteer medical clearance, and to serve as a reference for any future Volunteer disability claim.

Issued in Washington, DC on October 24, 2000.
Doug Greene,
Chief, Information Officer and Associate Director for Management.

[FR Doc. 00-28152 Filed 10-30-00; 1:56 pm]

BILLING CODE 6051-01-M